DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service (RUS) invites comments on this information collection for which RUS intends to request approval from the Office of Management and Budget (OMB).

DATES: Comments on this notice must be received by June 11, 2001.

FOR FURTHER INFORMATION CONTACT: F. Lamont Heppe, Jr., Director, Program Development & Regulatory Analysis, Rural Utilities Service, USDA, 1400 Independence Ave., SW., STOP 1522, Room 4034 South Building, Washington, DC 20250-1522. Telephone: (202) 720-0736. Fax: (202) 720-4120.

SUPPLEMENTARY INFORMATION: The Office of Management and Budget's (OMB) regulation (5 CFR 1320) implementing provisions of the Paperwork Reduction Act of 1935 (Pub. L. 104-13) requires that interested members of the public and affected agencies have an opportunity to comment on information collection and recordkeeping activities (see 5 CFR 1320.8(d)). This notice identifies information collection that RUS is submitting to OMB for an extension.

Comments are invited on: (a) Whether this proposed collection of information is necessary for the proper performance of the functions of the agency, including whether the information will have practical utility; (b) the accuracy of the agency's estimate of burden of the proposed collection of information; (c) ways to enhance the quality, utility, and clarity of the information to be collected; and (d) ways to minimize the burden of the collection of information on respondents, including through the use of automated collection techniques or other forms of information technology. Comments may be sent to: F. Lamont Heppe, Jr., Director, Program Development & Regulatory Analysis, Rural Utilities Service, USDA, 1400 Independence Ave., SW., STOP 1522, Washington, DC 20250-1522. Telephone: (202) 720-0736. FAX: (202) 720-4120.

Title: Report of Compliance and Participation.

OMB Control Number: 0572-0047.

Type of Request: Extension of a previously approved information collection with change.

Abstract: The Rural Utilities Service (RUS) manages programs in accordance with the Rural Electrification Act (RE Act) of 1936, 7 U.S.C. 901 et seq., as amended, and as prescribed by OMB Circular A-129, Policies for Federal Credit Programs and Non-Tax Receivables.

RUS Form 268 is designed for use by RUS electric and telephone borrowers in complying with the reporting requirements outlined in RUS Bulletin 1790-1, “Nondiscrimination Among Beneficiaries of RUS Programs.” RUS is required to implement regulations of the Department of Justice and USDA and to provide for the collection of civil rights data and information from applicants for and recipients of Federal assistance sufficient to permit effective enforcement of Title VI of the Civil Rights Act of 1964, Section 504 of the Rehabilitation Act of 1973, and the Age Discrimination Act of 1975 (ACTs). RUS Form 268 serves as a compliance report and facilitates RUS' responsibilities in enforcing compliance by electric and telephone borrowers with the requirements of the ACTs.

Respondents: Small businesses and not-for-profit institutions.

Estimated Number of Respondents and Recordkeepers: 1480.

Estimated Hours Per Respondent and Recordkeepers: 0.67 hours.

Estimated Total Annual Burden Hours: 992 hours.

Requests for copies of this information collection can be obtained from Bob Turner, Program Development and Regulatory Analysis, Rural Utilities Service, at (202) 720-0696. Fax: (202) 720-4120.

All responses to this notice will be summarized and included in the request for OMB approval. All comments will also become a matter of public record.

Dated: April 5, 2001.
Blaine D. Stockton,
Acting Administrator, Rural Utilities Service.

[FR Doc. 01-8871 Filed 4-10-01; 8:45 am]

BILLING CODE 3410-15-P